DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending September 30, 2012. For purposes of this listing, long-term residents, as defined in section 877(e)(2), are treated as if they were citizens of the United States who lost citizenship.

SUPPLEMENTARY INFORMATION:

LAST NAME | FIRST NAME | MIDDLE NAME/ INITIALS
ADER | CHRISTINE | MARY
ADRIANOPOULOS | GENIE | IRENE
ALBARRAK | SAMI | MANSOUR
ANDERSON | MARIE | GABRIELLE
APONTE | ERICK | ELVIS
ARBENZ | ULRICH | CURT
ARNET | LISA | SUSANNA
ASFOUR | CATHERINE | ELIZABETH
AUGUSTE-GRANT | ELEONORE | EMILIE
BASTAMI | NADIA |
BEACH-KORFF | VICTORIA | ELLEN
BOENINGER | CARLO | THEODOR
BOOTH | WILLIAM | MAC ORR
BOUCHARD | RAYMOND | JOSEPH
BOULLE II | JEAN-RAYMOND |
BROMLEY | MARGARET | ANNE
BROWNE | CARLA | EVELYN
BRUCE | JAMES | TODD
BRUNDAGE | KARLA | JANETH
BRUNDAGE | MARK | JAMES
BUHLER | FRANZESKA |
BUSSLIN- GER | ARTHUR | ALBERT
CAMINOS | CRAIG | FRANCIS
CAMINOS | MICHELE | CLARE
CAMPBELL | JESSICA | ANNE
CHANG | WAYNE | WEN TIEN
CHAN-PALAY | VICTORIA | LYE-HUA
CHEN | HOPE | MI
CHENG | ANTHONY | ENRIQUE
CHENG | LI |
CHOI | IRENE | HAEIN
CHOI | SOPHIA | JIN SOOK
CHRISTEN- SEN | WILLIAM | JAMES
CHUA | BERNICE | MINGHUI
CLARK | JOHN | DURHAM
CLARK | MELISSA |
CRAMER | LYNNE | HELENE
CUNNING- HAM | JAMES | HAMILTON
CZAPKA | RACHEL | TONI
DAHLEN- BURG | MARCI | ANN
DEAN | STEVEN | DON
DOUGLAS | MARCELLE-LATRISE |
DRUCK | JACOB | ALEXANDER
DUNN | PETER | WALLACE
EWALD | ERIC | ARNOLD
EWING | TEJASWIN | CONAN
FAN | HUIFANG |
FIRMENICH | ADRIEN | PIERRE
FRENETTE | RICHARD | JOSEPH ARTHUR
FUKUDA | MEGUMI |
GAEHWILER | YANNIK | PETER
GEIGER | DANIEL | CHRISTIAN
GEIGER | MICHAEL | MATTHIAS
GELKE | HANS-JOACHIM |
GISI-TOLLE | KERSTIN | SANDRA
GOEBEL | GARY | ROBERT
GOLAN | DANIEL | SAM
GRAF | KAROLINE | MADELEINE
GUNTHARDT | DOUGLAS | CARL
GUO | ZI | HUI
HAMMAKER | ALAN | CRAIG
HARRISON | FRANCIS | BERNARD
HINRICH | MERLE | A.
HO | HUI-MEI | KELLY
HOANG | HUY |
HOE | TIFFANY | SU YIN
HOLLING- SHEAD | BRUCE | WILLIAM
HOLTON | EDWARD | JOHN
HONG | JONG | MIN
HOOP | MARIA | EUGENIA
HOYT | PHILIP | EDWARD
HUNG | JIMMY | JUN MING
HUNG | PUN |
HYNDMAN | MATTHEW | ERIC
ILICH | ALICE | MILICA
JESSOP | DAVID |
JOND | PIERRE | MATHIEU
KAELIN | MICHAEL | JOSEPH
KANG | SAMUEL | KAY
KELLY | WILLIAM | HENDER- SON
KENYON | DORIS | ELISABETH
KIM | CHUL | HO
KIM | DIANE | DOHEE
KIM | ELLEN | EUN-YOUNG
KIM | HAILEY | HYUN KYUNG
KIM | HEEYON |
KIM | HYUN | JUNG
KIM | NO | SU
KIM | SEONG | YONG
KIM | SOOKWON |
KIM | SUNG | HYUN KIRK
KIM | WON |
KLINDER | THOMAS | WILLIAM
KOLLER | CHRISTIAN | WILLY
KOURI | MARION | JILL
KWAN | PHILIP | CHUN-HUN
KWON | IN | PYO
LANGLOIS | DANIELLE | NICOLE
LAUTER- BURG | STEPHANIE | E.
LEE | AMY | SOYOUNG
LEE | HIJUNG | CHAI
LEE | HYUK | JUN
LEE | HYUN | WOO
LEE | JIN | HOE
LEEDER | CHRISTINA |
LEOW | SUI | FOON
LEVINE | MITCHELL |
LIM | DAMIEN | JOHN XIAN-MING
LIM | KANDACE | HUI FANG
LIM | NATHANAEL | WEI-ZHONG
LIN | BOB |
LIN | FONG | KOH
LIN | KATHERINE |
LIN | KRYSTAL | KELLY
LIN | TINA |
LIU | KRISTIN | YIMING
LOH | RACHMINI | JUSUF
LOKE | ESMOND | WEI-HAO
LOUIE | ANNE | ON-YI
MAC- DOUGALL | ANDREW | JOSEPH
MACPHER- SON | RACHAEL | MARY
MADGE | FRANCES | ELIZABETH
MAGNESON | ROGER | WAYNE
MANOCCHIO | DOMENICO | STEFANO
MARDON | ANDREW | SYDNEY DAMPIER
MARSHALL | THOMAS | ORVILLE
MATHEWS | MARIA | LYNN
MATHIEU | PATRICIA |
MATSUWAKI | PRESTON | JOSIAH
McCLUSKEY | WENDY | SUE
MCEOWN | JOHN | HARVEY
McKEE | MARC | DOUGLAS
McROBERTS | KELLI | ANN
MILLIKEN | KEVIN | JOHN
MIN | ERIC | JOONKI
MIN | TERESA | JIN
MOREYRA | MARIE | MADELINE
MORGAN | SARAH | JANE GLYNIS
MUELLER | HEIDY | VERENA
MULLER | DANIEL | ROLF
NADAL | SARAH | JENNIFER
NANAVATI | RAOUL | ANIL
NEO | KRISTIE | MEI HUI
NUSSBAUM | ANINA | NATALIE
NYFELER-SCHRIEFER | KAREN | DIANNE
OBERSON | SANDRA | CLARA CHRISTELLE
OLSEN | JOHN | ALBERT
OMAR | RALPH | MAHMOUD
PAK | YUNE | HUL
PAN | SY-LIAN |
PARENTI-ADAMI | LISA |
PARK | HA | JEONG
PAUL | CLARA | PO YIN
PAUL | JORDAN | RAY
PENNELL | CHRISTINE | RENEE
PETERSON | WAYNE | EDWARD
PEY | MARK | BRAND
PFENNIGER | SHERRY | MAY
PLA | PEDRO |
PONT-SIMONE | DANIELA |
POSNER | GERALD | SHERWIN
POSNER | SHERNA | RICKI
POZZI | FILIPPO | CARLO
RICKETSON | LEAH | JEANNE
RILEY | DAVIDA | K.
RILEY | EDWARD | J.
RILEY | LAURA | DIANE
RIST | MARKUS | FRANCOIS
RODRIGUEZ | JULIO | ENRIQUE
ROMAN | GREGORY | J.
ROSE | NICHOLAS | EDWARD
RUNDEL | CHRIS- TOPHER | LUKE
RUTLEDGE | JAYNE | NELSON
RYAN | SARAH |
RYU | HOI | SUNG
RYU | PATRICK | WOONG
SADASIVAN | ANITA | JIA-WEN
SALVALAG- GIO | ROBERT | ANDREW
SCHARPF | LUKAS | ADRIANO
SCHAUB | ROBERT | WALTER
SCHMID | MAX | OTTO
SCHMID | URSULA |
SCHOUELA | EVELYN | MONIQUE
SCOTT | E. | RUBY DARLENE
SCOTT | TOMMY | ALONZO
SHEPARD | JAMES | E.
SHIH | SU | FENG
SIMON | MARY | KAY
SIU | RONALD |
SLATER | TODD | LOUIS
SMITH | LESTER | FRANK
SNELL | LAREE | ROSE
SO | EUN | YOUNG
SOLAND | VALERIE | LYNN
SOONG | ALICE | YENYI
SOONG | JULIE | FENG-ING
SOONG | KATY | HUEI-LIN
SOONG | TOM |
STAHEL | ROLF | ARNO
STEINER | VINCENT | MARC
STOCK | DONALD | ALLEN
STONE | JOHN | ALAN
STOYKO | JAN | LILLOOET
STROM | DONALD | WILFRED
SUEN | EDITH | Y. H. CHENG
SUTHER- LAND | PAUL | JAMES
SVENNAS | KATARINA | LEA
SVENNAS | KRISTOFER | ERIK
TAYLOR | LAURA | ANN
TEO | BERTRAND |
TIDD | JOHN | H.
TIEN | MELISSA | CHIH HUI
TOURAN- GEAU | LAWRENCE | DALE
TOWNSEND | LISA | ANN
UNAGST | PAUL | LUCIEN-WARREN
VAN BUSKIRK | ELISABETH | THERESE
VISCHER | INES | ALICIA
VISCHER SCHATZ | ISABEL | FLORENCIA
VOCK | CYRIL | HENRY
VON AH | THOMAS | JOSEPH
VREBOS | KARIN | LUCIENNE
WALKER | JANICE | LOUISE THEDA
WALLEY | JOHN | FRANKLIN
WARREN | DANIEL | THOMAS
WATLER | CHRIS- TOPHER | WESLEY
WEBER | RONALD | MIKE
WEE | HIDE | ELRIDA
WESTON | MARIANNE | M.
WIESER | DANIEL | DOMINIQUE
WILLIAMS | CAROLINE | HAZARD
WINDER | KATHRYN | DRAKE
WU | JEFFERY | C. C.
YANG | SOON | PIL
YI | U. | HYONG
YOO | SEUNG- HOON |
ZHU | MELISSA | XUE-YIN
ZUCK | JOHN | JAY
ZWEIG | ANNINA | MIRIAM

Dated: October 17, 2012.
Ann V. Gaudelli,
Manager Team 103, Examinations Operations—Philadelphia Compliance Services.

[FR Doc. 2012-26841 Filed 10-31-12; 8:45 am]

BILLING CODE 4830-01-P